FEDERAL COMMUNICATIONS COMMISSION

47 CFR Part 73

[MB Docket No. 21-123; RM-11890; DA 21-1162; FR ID 49528]

Television Broadcasting Services Fort Bragg, California

AGENCY: Federal Communications Commission.

ACTION: Proposed rule.

SUMMARY: The Commission has before it a petition for rulemaking filed by One Ministries, Inc. (Petitioner), requesting the allotment of reserved noncommercial educational channel * 4 at Fort Bragg, California, as the community's second local service in the DTV Table of Allotments and its first local NCE television service.

DATES: Comments must be filed on or before November 1, 2021 and reply comments on or before November 15, 2021.

ADDRESSES: Federal Communications Commission, Office of the Secretary, 45 L Street NE, Washington, DC 20554. In addition to filing comments with the FCC, interested parties should serve the Petitioner as follows: Keith Leitch, One Ministries, Inc., P.O. Box 1118, Santa Rosa, California 95402.

FOR FURTHER INFORMATION CONTACT: Joyce Bernstein, Media Bureau, at (202) 418-1647; or Joyce Bernstein, Media Bureau, at Joyce.Bernstein@fcc.gov.

SUPPLEMENTARY INFORMATION: In support of its channel allotment request, the Petitioner states that Fort Bragg is a community deserving of a new television broadcast service. According to the Petitioner, Fort Bragg (pop. 7,179/2010 Census) has a mayor, vice mayor, city manager, and two council members; police, public works, and utility departments; and a library, numerous businesses and places of worship, and its own ZIP Code. In addition, channel 8 (KQSL(TV)) is already allotted to Fort Bragg. The Petitioner states its intention to file an application for channel * 4, if allotted, and take all necessary steps to obtain a construction permit. The Commission concludes the request to amend the Post-Transition Table of DTV Allotments warrants consideration. The Petitioner's proposal would result in a second local service to Fort Bragg consistent with the Commission's television allotment policies. Channel * 4 can be allotted to Fort Bragg, consistent with the minimum geographic spacing requirements for new DTV allotments in section 73.623(d) of the Commission's rules, at 39°41′38.4″ N and 123°34′46.7″ W. In addition, the allotment point complies with section 73.625(a)(1) of the rules as the entire community of Ft. Bragg is encompassed by the 35 dBμ contour.

This is a synopsis of the Commission's Notice of Proposed Rulemaking, MB Docket No. 21-123; RM-11890; DA 21-1162, adopted September 15, 2021, and released September 16, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. In § 73.622(i), amend the table “Post-Transition Table of DTV Allotments” under California by revising the entry for Fort Bragg to read as follows:

§ 73.622 Digital television table of allotments.

* * * * *

(i) * * *

Community | Channel No.
* * * * *
CALIFORNIA
* * * * *
Fort Bragg | * 4, 8
* * * * *

[FR Doc. 2021-20636 Filed 9-29-21; 8:45 am]

BILLING CODE 6712-01-P